DEPARTMENT OF TRANSPORTATION

Federal Aviation Administration

Proposed Advisory Circular 23-16A, Powerplant Guide for Certification of Part 23 Airplanes

AGENCY: Federal Aviation Administration (FAA), DOT.

ACTION: Notice of availability of proposed advisory circular AC 23-16A, and request for comments.

SUMMARY: This notice announces the availability of and requests comments on a proposed advisory circular, Advisory Circular (AC) 23-16A, Powerplant Guide for Certification of Part 23 Airplanes, that provides information and guidance concerning acceptable means, but not the only means of compliance with Title 14 of the Code of Federal Regulations (14 CFR) part 23, subpart E, applicable to the powerplant installation in normal, utility, acrobatic, and commuter category airplanes. The AC consolidates existing policy documents, and certain AC's that cover specific paragraphs of the regulations, into a single document. Material in the AC is neither mandatory nor regulatory in nature and does not constitute a regulation.

DATES: Comments must be received on or before December 8, 2003.

ADDRESSES: If possible, please submit your comments electronically to Mark.Orr@faa.gov Otherwise, send all comments on the proposed AC to: Federal Aviation Administration, Attention: Mr. Mark Orr, ACE-111, 901 Locust, Kansas City, MO 64106. Comments may be inspected at the above address between 7:30 and 4 p.m. weekdays, except Federal holidays. All comments should contain the name and telephone number of the individual or company making the comment, the paragraph and page number that the comment references, the reason for comment, and the recommended resolution.

FOR FURTHER INFORMATION CONTACT: Mr. Mark Orr, Standards Office, Small Airplane Directorate, Aircraft Certification Service, Kansas City, Missouri 64106, telephone: (816) 329-4151, fax: (816) 329-4090.

SUPPLEMENTARY INFORMATION:

Discussion

Interested persons are invited to comment on the proposed AC by submitting such written data, views, or arguments as they may desire. Commenters should identify AC 23-16A and submit comments, in duplicate, to the address specified above. All communications received on or before the closing date for comments will be considered by the Small Airplane Directorate before issuing the final AC. The proposed AC can be found and downloaded from the Internet at http://www.faa.gov/certification/aircraft and taking the following steps: Select “Regulations, Policy, and Guidance,” next select “Draft Advisory Circulars,” and, finally, select “Open for Comment.” A paper copy of the proposed AC may be obtained by contacting the person named above under the caption FOR FURTHER INFORMATION CONTACT.

Issued in Kansas City, Missouri on September 24, 2003.
Michael Gallagher,
Manager, Small Airplane Directorate, Aircraft Certification Service.

[FR Doc. 03-25424 Filed 10-7-03; 8:45 am]

BILLING CODE 4910-13-P